DEPARTMENT OF ENERGY

Federal Energy Regulatory Commission

[Project No. 516-319, -321, -326, -329, -330, -331, -332, -333, -354, -355, -356, -357, 358 and -359]

South Carolina Electric & Gas Company; Notice of Environamental Assessment

September 4, 2002.

In accordance with the National Environmental Policy Act of 1969 and the Federal Energy Regulatory Commission's (Commission's) regulations, the Office of Energy Projects has reviewed the applications dated March 20, June 26 and November 27, 2000, and August 22, 2001, requesting the Commission's approval to sell project land for future private development at the Saluda Project, located on the Saluda River in Lexington, Saluda and Newberry Counties, South Carolina, and has prepared an Environmental Assessment (EA) for the proposed action.

Copies of the EA can be viewed at the Commission's Public Reference Room, Room 2A, 888 First Street, NE., Washington, DC 20426, or by calling (202) 502-8371. The EA may also be viewed on the Commission's web site at http://www.ferc.gov using the “FERRIS” link. Enter the docket number excluding the last three digits in the docket number field to access the document. For Assistance, call (202) 502-8222 or for TTY, (202) 208-1659.

Any comments on the EA should be filed within 60 days from the date of this notice and should be addressed to: Magalie Salas, Secretary, Federal Energy Regulatory Commission, 888 First Street, NE., Washington, DC, 20426. Please affix “Saluda Project No. 516-319.etc.” to the first page of your comments. All timely filed comments will be considered in the Commission order addressing the proposed sale of project land for future private development. Comments, protests and interventions may be filed electronically via the Internet in lieu of paper. See, 18 CFR 385.2001(a)(1)(iii) and the instructions on the Commission's web site under the “e-filing” link.

For further information, please contact Jack Hannula at (202) 219-0116.

Linwood A. Watson, Jr.,
Deputy Secretary.

[FR Doc. 02-22873 Filed 9-9-02; 8:45 am]

BILLING CODE 6717-01-P